DEPARTMENT OF HEALTH AND HUMAN SERVICES

Centers for Disease Control and Prevention

[Program Announcement 01045]

Diabetes Programs; Notice of Availability of Funds

A. Purpose

The Centers for Disease Control and Prevention (CDC) announces the availability of fiscal year (FY)2001 funds for grant programs entitled Diabetes Programs. This announcement is related to the focus area of Diabetes.

The purpose of the program is to reduce the disease and economic burden of diabetes, and improve the quality of life for all persons who have or are at risk for diabetes, through prevention programs.

B. Eligible Applicants

Assistance will only be provided to the organizations listed below. No other applications are solicited. The Conference Report H. R. 4577, Consolidated Appropriation Act 2001, specified these funds for the organizations listed below.

1.1 Fresno Community Hospital and Medical Center to support a minority focused diabetes outreach program. ($214,767)

1.2 Diabetes -Endocrinology Center of Western New York in Buffalo for community education and outreach efforts to improve early detection, prevention, and control of diabetes. ($198,893)

1.3 Louisiana State Health Sciences Center in Shreveport for a comprehensive diabetic education and treatment program. ($257,720)

1.4 Center for Diabetes and Prevention Control at Texas Tech University Health Sciences Center to provide a national model of diabetes outreach, education, prevention, and care. ($1,720,691)

Note: Title 2 of the United States Code, Chapter 26, Section 1611 states that an organization described in section 501(c)(4) of the Internal Revenue Code of 1986 that engages in lobbying activities is not eligible to receive Federal funds constituting an award, grant, cooperative agreement, contract, loan, or any other form.

C. Availability of Funds

Approximately $2,392,341 is available in FY 2001 to fund four awards. It is expected that the award will begin on or about July 1, 2001, and will be made for a 12-month budget period within a one year project period. Funding estimates may change.

D. Where To Obtain Additional Information

Business management technical assistance may be obtained from: Barry Copeland, Grants Management Specialist, Grants Management Branch, Procurement and Grants Office, Announcement 01045, Centers for Disease Control and Prevention (CDC), 2920 Brandywine Road, Room 3000, Atlanta, GA 30341-4146, Telephone: (770) 488-2751, Email Address: bjc8@cdc.gov.

Program technical assistance may be obtained from: Dara Murphy, Division of Diabetes Translation, National Center for Chronic Disease Prevention and Health Promotion (NCCDPHP), 4770 Buford Highway, NE, MS K-10 Atlanta, Georgia 30341, Telephone: (770) 488-5193, E-Mail Address: dlm1@cdc.gov.

Dated: April 25, 2001.
John L. Williams,
Director, Procurement and Grant Office, Center for Disease Control and Prevention (CDC).

[FR Doc. 01-10761 Filed 4-30-01; 8:45 am]

BILLING CODE 4163-18-P